NUCLEAR REGULATORY COMMISSION

[Docket Nos.; 50-263, 50-275, and 50-323; NRC-2025-1897]

Issuance of Multiple Exemptions

AGENCY: Nuclear Regulatory Commission.

ACTION: Notice; issuance.

SUMMARY: The U.S. Nuclear Regulatory Commission (NRC) is issuing a single notice to announce the issuance of three exemptions in response to requests as detailed in the available documents.

DATES: This notice contains three exemptions that the NRC granted during the period from July 1, 2025, to September 30, 2025, in response to requests submitted by two licensees.

ADDRESSES: Please refer to Docket ID NRC-2025-1897 when contacting the NRC about the availability of information regarding this document. You may obtain publicly available information related to this document using any of the following methods:

• Federal Rulemaking Website: Go to https://www.regulations.gov and search for Docket ID NRC-2025-1897. Address questions about Docket IDs in Regulations.gov to Bridget Curran; telephone: 301-415-1003; email: Bridget.Curran@nrc.gov. For technical questions, contact the individual listed in the “For Further Information Contact” section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email at PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Robert Kuntz, Office of Nuclear Reactor Regulation, U.S. Nuclear Regulatory Commission, Washington, DC 20555-0001; telephone: 301-415-3733; email: Robert.Kuntz@nrc.gov.

SUPPLEMENTARY INFORMATION:

I. Introduction

During the period from July 1, 2025, through September 30, 2025, the NRC granted the included three exemptions in response to requests submitted by the following licensees: Pacific Gas and Electric Company and Northern States Power Company.

The details of the exemptions that have been issued are provided in the available documents.

II. Availability of Documents

The tables in this notice provide transparency regarding the number and type of exemptions the NRC has issued and provide the licensee name, facility name, docket number, document description, document date, and ADAMS accession number for each exemption issued. Additional details on each exemption issued, including the exemption request submitted by the respective licensee and the NRC's decision, are provided in each exemption approval listed in the following tables. For additional directions on accessing information in ADAMS, see the ADDRESSES section of this document.

Document description | ADAMS Accession No. | Document date
Pacific Gas and Electric Company; Diablo Canyon Nuclear Power Plant, Units 1 and 2; Docket Nos. 50-275 and 50-323
Diablo Canyon Nuclear Power Plant, Units 1 and 2—Exemption from Requirements of 10 CFR 73.55(e)(9)(vi)(A) for Early Warning System | ML25183A195 | July 21, 2025.
Diablo Canyon Nuclear Power Plant, Units 1 and 2—Exemption from 10 CFR 50.46 to Support Use of Optimized Zirlo™ for Improved Fuel Rod Cladding Performance | ML25171A144 (ADAMS package) | August 13, 2025.
Northern States Power Company; Monticello Nuclear Generating Plant, Unit 1; Docket No. 50-253
Monticello Nuclear Generating Plant, Unit 1—Exemption from Specific Requirements of 10 CFR 50.55a In Support of Adoption of Code Case N-921 | ML25231A222 | September 4, 2025.

Dated: December 5, 2025.
For the Nuclear Regulatory Commission.
Robert Kuntz,
Senior Project Manager, Plant Licensing Branch III, Division of Operating Reactor Licensing, Office of Nuclear Reactor Regulation.

[FR Doc. 2025-22318 Filed 12-8-25; 8:45 am]

BILLING CODE 7590-01-P